Proclamation 7642 of January 17, 2003

Martin Luther King, Jr., Federal Holiday, 2003

By the President of the United States of America

A Proclamation

Dr. Martin Luther King, Jr., served as a voice of conscience for our Nation, and his words and actions continue to inspire courage, humility, and compassion. As a visionary leader of the civil rights movement, Dr. King helped to advance human dignity by working peacefully to resolve racial conflict through speeches, marches, and countless nonviolent activities that helped our Nation recognize the importance of upholding fully our founding ideals of equality, tolerance, and justice for all. Dr. King's enduring contributions to America remind us and countless others around the world that people should “. . . not be judged by the color of their skin but by content of their character.” He also taught us that lasting achievement in life comes through sacrifice and service. His devotion to helping others reflected the true spirit of service and citizenship, and his example continues to motivate individuals to serve causes greater than themselves.

Dr. King wrote that “Injustice anywhere is a threat to justice everywhere.” As Americans celebrate the 18th national commemoration of the life and legacy of this great leader, we recognize the lasting truth of his words and his legacy, and we renew our commitment to the principles of justice, equality, opportunity, and optimism that Dr. King espoused and exemplified.

As we honor Dr. King's accomplishments, we pledge to work for a Nation in which all people of every race realize the promise of America. No government policy can put hope in people's hearts or a sense of purpose in people's lives; but we can and will continue to support efforts that seek to secure a Nation of dignity, liberty, and compassion.

To achieve this goal, our Nation must work to ensure that all American children have an equal chance to succeed and reach their full potential. One year ago this month, our country set a bold new course in public education with the passage of the No Child Left Behind Act, ushering in an era of accountability, local control, and high standards. This Act affirmed our faith in the wisdom of parents and communities and our fundamental belief in the promise of every child. Across America, States and school districts are working diligently to implement reforms called for by this important legislation, which will produce better results for all of our students. My Administration is committed to these efforts, and I will continue working with the Congress to enact reforms and provide support to help build the mind and character of every child from every background in every part of America. By working together to advance Dr. King's ideals of equality and acceptance, we can achieve his dream of a Nation united in understanding, defined in promise, and guided by hope.

NOW, THEREFORE, I, GEORGE W. BUSH, President of the United States of America, by virtue of the authority vested in me by the Constitution and laws of the United States, do hereby proclaim Monday, January 20, 2003, as the Martin Luther King, Jr., Federal Holiday. I encourage all Americans to observe this day with appropriate civic, community, and service programs and activities in honor of Dr. King's life and legacy.

IN WITNESS WHEREOF, I have hereunto set my hand this seventeenth day of January, in the year of our Lord two thousand three, and of the Independence of the United States of America the two hundred and twenty-seventh.

B

[FR Doc. 03-1659

Filed 1-22-03; 8:45 am]

Billing code 3195-01-P